DEPARTMENT OF ENERGY

Federal Energy Regulatory Commission

Combined Notice of Filings #1

Take notice that the Commission received the following electric rate filings:

Docket Numbers: ER13-2428-000.

Applicants: Kentucky Utilities Company.

Description: Municipal General Rate Case to be effective 11/23/2013.

Filed Date: 9/23/13.

Accession Number: 20130923-5131.

Comments Due: 5 p.m. ET 10/15/13.

Docket Numbers: ER13-2429-000.

Applicants: PJM Interconnection, L.L.C.

Description: Queue Position Y2-018; Original Service Agreement No. 3644 to be effective 8/22/2013.

Filed Date: 9/23/13.

Accession Number: 20130923-5141.

Comments Due: 5 p.m. ET 10/15/13.

Docket Numbers: ER13-2430-000.

Applicants: Southwest Power Pool, Inc.

Description: 1374R13 Kansas Power Pool and Westar Meter Agent Agreement to be effective 9/1/2013.

Filed Date: 9/24/13.

Accession Number: 20130924-5045.

Comments Due: 5 p.m. ET 10/15/13.

Docket Numbers: ER13-2431-000.

Applicants: FC Landfill Energy, LLC.

Description: MBR tariff cancellation to be effective 9/25/2013.

Filed Date: 9/24/13.

Accession Number: 20130924-5066.

Comments Due: 5 p.m. ET 10/15/13.

Docket Numbers: ER13-2432-000.

Applicants: BC Landfill Energy, LLC.

Description: MBR tariff cancellation to be effective 9/25/2013.

Filed Date: 9/24/13.

Accession Number: 20130924-5067.

Comments Due: 5 p.m. ET 10/15/13.

Docket Numbers: ER13-2433-000.

Applicants: Southwest Power Pool, Inc.

Description: Notice of Cancellation of the Occidental Meter Agent Services Agreement of Southwest Power Pool, Inc.

Filed Date: 9/24/13.

Accession Number: 20130924-5068.

Comments Due: 5 p.m. ET 10/15/13.

Docket Numbers: ER13-2434-000.

Applicants: SC Landfill Energy, LLC.

Description: MBR tariff cancellation to be effective 9/25/2013.

Filed Date: 9/24/13.

Accession Number: 20130924-5071.

Comments Due: 5 p.m. ET 10/15/13.

Docket Numbers: ER13-2435-000.

Applicants: WC Landfill Energy, LLC.

Description: MBR tariff cancellation to be effective 9/25/2013.

Filed Date: 9/24/13.

Accession Number: 20130924-5072.

Comments Due: 5 p.m. ET 10/15/13.

Docket Numbers: ER13-2436-000.

Applicants: Platinum Energy, LLC.

Description: Platinum Energy, LLC Market Based Rate Tariff to be effective 10/15/2013.

Filed Date: 9/24/13.

Accession Number: 20130924-5079.

Comments Due: 5 p.m. ET 10/15/13.

Take notice that the Commission received the following electric reliability filings:

Docket Numbers: RR13-12-000.

Applicants: Western Electricity Coordinating Council.

Description: Documents concerning the formation of a company (Peak Reliability) of Western Electricity Coordinating Council.

Filed Date: 9/20/13.

Accession Number: 20130920-5144.

Comments Due: 5 p.m. ET 10/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2013.
Nathaniel J. Davis, Sr.,
Deputy Secretary.

[FR Doc. 2013-23883 Filed 9-30-13; 8:45 am]

BILLING CODE 6717-01-P